DEPARTMENT OF THE INTERIOR

Fish and Wildlife Service

[Docket No. FWS-R2-ES-2013-0061]; [FXES11120200000F2-145-FF02ENEH00]

Finding of No Significant Impact for the Renewal and Amendment to the Barton Springs Pool Habitat Conservation Plan, City of Austin, Travis County, Texas

AGENCY: Fish and Wildlife Service, Interior.

ACTION: Notice of availability and final decision.

SUMMARY: We, the U.S. Fish and Wildlife Service (Service), make available the final Environmental Assessment (EA), Finding of No Significant Impact (FONSI), and the final amendment to the Barton Springs Pool Habitat Conservation Plan (BSP HCP) under the National Environmental Policy Act of 1969. The City of Austin (applicant) applied for a renewal of their existing Endangered Species Act incidental take permit, with a major amendment to add the Austin blind salamander as an additional covered species; to increase the amount of take for Barton Springs salamander; and to extend the permit term for an additional 20 years.

DATES: We are issuing the Finding of No Significant Impact with this notice.

ADDRESSES: Reviewing Documents:

You may obtain copies of the FONSI, final EA, and final BSP HCP at the Federal eRulemaking Portal at http://www.regulations.gov (search for Docket No. FWS-R2-ES-2013-0061), as well as on the Service's Web site at http://www.fws.gov/southwest/es/AustinTexas. The BSP HCP is also available on the City of Austin's ftp site at ftp://ftp.ci.austin.tx.us/wre/BSHCP.

Alternatively, you may obtain a CD-ROM with electronic copies of the FONSI, final EA, and final BSP HCP by writing to Mr. Adam Zerrenner, Field Supervisor, U.S. Fish and Wildlife Service, 10711 Burnet Road, Suite 200, Austin, TX 78758; calling 512-490-0057; or faxing 512-490-0974. A limited number of printed copies of the final documents are also available, by request, from Mr. Zerrenner. Copies of the FONSI, final EA, and final BSP HCP are also available for public inspection and review at the following locations, by appointment and written request only, 8 a.m. to 4:30 p.m.:

• Department of the Interior, Natural Resources Library, 1849 C. St. NW., Washington, DC 20240.

• U.S. Fish and Wildlife Service, 500 Gold Avenue SW., Room 6034, Albuquerque, NM 87102.

• U.S. Fish and Wildlife Service, 10711 Burnet Road, Suite 200, Austin, TX 78758.

FOR FURTHER INFORMATION CONTACT: Mr. Adam Zerrenner, Field Supervisor, by U.S. mail at U.S. Fish and Wildlife Service, Austin Ecological Services Field Office, 10711 Burnet Road, Suite 200, Austin, TX 78758-4460; or by telephone at 512-490-0057.

SUPPLEMENTARY INFORMATION: In accordance with the requirements of the National Environmental Policy Act of 1969 (NEPA) (42 U.S.C. 4321 et seq.), we advise the public that:

1. We gathered the information necessary to determine impacts and formulate alternatives for the EA related to potential issuance of a renewed incidental take permit (ITP) with a major amendment to the applicant;

2. The applicant developed an amended habitat conservation plan (BSP HCP) as part of the application for an ITP, which describes the measures the applicant has agreed to take to minimize and mitigate the effects of incidental take of covered species to the maximum extent practicable pursuant to section 10(a)(1)(B) of the Endangered Species Act of 1973 (Act), as amended (16 U.S.C. 1531 et seq.); and,

3. We have a finding of no significant impact; therefore,

4. We issued the ITP to the applicant on September 12, 2013.

The applicant applied for a renewed ITP (TE-839031), with a major amendment that will be in effect for an additional 20 years, and authorizes incidental take of two animal species (covered species), the endangered Barton Springs salamander (Eurycea sosorum) and the Austin Blind salamander (Eurycea waterlooensis). As described in the BSP HCP, the anticipated incidental take will occur in four spring sites within Zilker Park, Travis County, Texas (permit area), and will result from activities associated with otherwise lawful activities, including the operations and maintenance of Barton Springs Pool (covered activities). The final EA considers the direct, indirect, and cumulative effects of implementation of the HCP, including the measures that will be implemented to minimize and mitigate such impacts to the maximum extent practicable.

Background

The applicant originally held an ITP (TE-839031) for the Barton Springs salamander that would have expired on October 2, 2013. Opportunity for public review of the original permit application, the environmental assessment, and the habitat conservation plan was provided in the Federal Register on March 16, 1998 (63 FR 12817), and July 15, 1998 (63 FR 38191). Activities included in the existing and 2013 BSP HCP include, but are not limited to, recreation, operations, maintenance, and restoration at Barton Springs Pool, Old Mill Spring, Eliza Spring, and Upper Barton Spring.

The application for amendment to the ITP included adding Austin Blind salamander as a covered species, increasing the amount of take authorized for Barton Springs salamander, and an extension of the permit term for an additional 20 years to 2033.

Other Alternatives Considered

We considered one alternative to the proposed action.

1. No Action—No renewal of the ITP with a major amendment would be issued. Under this alternative, maintenance of the Barton Springs Pool would continue only until the current permit expires. When the current permit expires, the applicant would halt all maintenance activities that may cause take of listed species. As routine and post-flood cleaning is critical to maintaining Barton Springs Pool for recreational activities, use of the Pool would likely be restricted until a new incidental take permit could be issued. The applicant would continue to be subject to the take prohibitions of the Act. Where potential impacts could not be avoided, and where a Federal nexus exists, measures designed to minimize and mitigate for the impacts would be addressed through individual formal or informal consultation with the Service.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Decision

We issued an ITP to the City of Austin for implementation of the preferred alternative as it is described in the BSP HCP. Our decision is based on a thorough review of the alternatives and their environmental consequences. Implementation of this decision entails issuance of the ITP by the Service and full implementation of the BSP HCP by the City of Austin, including minimization and mitigation measures, monitoring and adaptive management, and complying with all terms and conditions in the ITP.

Authority

We provide this notice under section 10(c) of the Act and its implementing regulations (50 CFR 17.22 and 17.32) and NEPA and its implementing regulations (40 CFR 1506.6).

Joy E. Nicholopoulos,
Acting Regional Director, Southwest Region, Albuquerque, New Mexico.

[FR Doc. 2013-25167 Filed 10-24-13; 8:45 am]

BILLING CODE 4310-55-P